DEPARTMENT OF STATE

[Public Notice: 9073]

Shipping Coordinating Committee; Notice of Committee Meeting

The Shipping Coordinating Committee (SHC) will conduct an open meeting at 9:30 a.m. on Tuesday, May 5, 2015, in Conference Rooms 8-9-10 of the United States Department of Transportation (DOT) Headquarters Building, 1200 New Jersey Avenue SE., Washington, DC 20590. The primary purpose of the meeting is to prepare for the sixty-eighth Session of the International Maritime Organization's (IMO) Marine Environment Protection Committee to be held at the IMO Headquarters, United Kingdom, May 11-15, 2015.

The agenda items to be considered include:

—Adoption of the agenda

—Harmful aquatic organisms in ballast water

—Air pollution and energy efficiency

—Further technical and operational measures for enhancing energy efficiency of international shipping

—Reduction of greenhouse gases (GHG) emissions from ships

—Consideration and adoption of amendments to mandatory instruments

—Review of nitrogen and phosphorus removal standards in the 2012 Guidelines on the implementation of effluent standards and performance tests for sewage treatment plants

—Use of electronic record books

—Identification and protection of Special Areas and Particularly Sensitive Sea Areas

—Inadequacy of reception facilities

—Reports of sub-committees

—Work of other bodies

—Promotion of implementation and enforcement of MARPOL and related instruments

—Technical co-operation activities for the protection of the marine environment

—Capacity building for the implementation of new measures

—Work program of the Committee and subsidiary bodies

—Application of the Committee's Guidelines

—Election of the Chairman and Vice-Chairman

—Any other business

—Consideration of the report of the Committee

Members of the public may attend this meeting up to the seating capacity of the room. To facilitate the building security process, and to request reasonable accommodation, those who plan to attend should contact the meeting coordinator, LCDR Matt Frazee, by email at imo@uscg.mil, or by phone at (202) 372-1376, not later than April 29, 2015, 7 days prior to the meeting. Upon request, a limited number of teleconference lines may be available. Requests made after April 29, 2015 might not be able to be accommodated. Please note that due to security considerations, two valid, government issued photo identifications must be presented to gain entrance to the DOT Headquarters building. The DOT Headquarters building is accessible by public transportation (Navy Yard subway station), taxi and privately owned conveyance.

Dated: March 25, 2015.
Marc Zlomek,
Executive Secretary, Shipping Coordinating Committee, Department of State.

[FR Doc. 2015-07461 Filed 3-31-15; 8:45 am]

BILLING CODE 4710-09-P